DEPARTMENT OF HEALTH AND HUMAN SERVICES

National Institutes of health

Center for Scientific Review; Amended Notice of Meeting

Notice is hereby given of a change in the meeting of the Center for Scientific review Special Emphasis Panel, December 18, 2002, 4 p.m. to December 18, 2002, 5 p.m., which was published in the Federal Register on November 29, 2002, 67 FR 71187.

The meeting time has been changed to 12 p.m. to 2 p.m. The meeting date and location remain the same. The meeting is closed to the public.

Dated: December 13, 2002.
LaVerne Y. Stringfield,
Director, Office of Federal Advisory Committee Policy.

[FR Doc. 02-32082 Filed 12-19-02; 8:45 am]

BILLING CODE 4140-01-M